DEPARTMENT OF DEFENSE

Office of the Secretary

Uniform Formulary Beneficiary Advisory Panel; Notice of Federal Advisory Committee Meeting

AGENCY: Under Secretary of Defense for Personnel and Readiness, Department of Defense (DoD).

ACTION: Notice of Federal advisory committee meeting.

SUMMARY: The DoD is publishing this notice to announce that the following Federal advisory committee meeting of the Uniform Formulary Beneficiary Advisory Panel (UF BAP) will take place.

DATES: Open to the public Wednesday, September 27, 2023, 10:00 a.m.-1:00 p.m. (Eastern Standard Time).

ADDRESSES: The meeting will be held telephonically or via conference call. The phone number for the remote access on September 27, 2023 is: CONUS: 1-800-369-2046; OCONUS: 1-203-827-7030; PARTICIPANT CODE: 8546285.

These numbers and the dial-in instructions will also be posted on the UF BAP website at: https://www.health.mil/Military-Health-Topics/Access-Cost-Quality-and-Safety/Pharmacy-Operations/BAP.

FOR FURTHER INFORMATION CONTACT: Designated Federal Official (DFO) Colonel Paul B. Carby, USA, 703-681-2890 (voice), dha.ncr.j-6.mbx.baprequests@health.mil (email). Mailing address is 7700 Arlington Boulevard, Suite 5101, Falls Church, VA 22042-5101. Website: https://www.health.mil/Military-Health-Topics/Access-Cost-Quality-and-Safety/Pharmacy-Operations/BAP. The most up-to-date changes to the meeting agenda can be found on the website.

SUPPLEMENTARY INFORMATION: This meeting is being held under the provisions of 5 United States Code (U.S.C.) chapter 10 (commonly known as the Federal Advisory Committee Act or FACA), the Government in the Sunshine Act of 1976 (5 U.S.C. 552b, as amended), and 41 CFR 102-3.140 and 102-3.150.

Purpose of the Meeting: The UF BAP will review and comment on recommendations made to the Director, Defense Health Agency, by the Pharmacy and Therapeutics Committee, regarding the Uniform Formulary.

Agenda

1. 10:00 a.m.-10:10 a.m. Sign In for UF BAP Members

2. 10:10 a.m.-10:40 a.m. Welcome and Opening Remarks

a. Welcome, Opening Remarks, and Introduction of UF BAP Members by DFO, UF BAP

b. Public Written Comments by DFO, UF BAP

c. Opening Remarks by UF BAP Co-Chair

d. Introductory Remarks by Chief, Formulary Management Branch

3. 10:40 a.m.-11:45 a.m. Scheduled Therapeutic Class Reviews

4. 11:45 a.m.-12:30 p.m. Newly Approved Drugs Review

5. 12:30 p.m.-12:45 p.m. Pertinent Utilization Management Issues

* Note that UF BAP discussion and vote will follow each section

6. 12:45 p.m.-1:00 p.m. Closing remarks

a. Closing Remarks by UF BAP Co-Chair

b. Closing Remarks by DFO, UF BAP

Meeting Accessibility: Pursuant to section 10(a)(1) of the FACA and 41 CFR 102-3.140 through 102-3.165, and subject to the availability of phone lines, this meeting is open to the public. Telephone lines are limited and available to the first 220 people dialing in. There will be 220 lines total: 200 domestic and 20 international, including leader lines.

Written Statements: Pursuant to 41 CFR 102-3.10, and section 10(a)(3) of FACA, interested persons or organizations may submit written statements to the UF BAP about its mission and/or the agenda to be addressed in this public meeting. Written statements should be submitted to the UF BAP's DFO. The DFO's contact information can be found in the FOR FURTHER INFORMATION CONTACT section of this notice. Written comments or statements must be received by the UF BAP's DFO at least five (5) calendar days prior to the meeting so they may be made available to the UF BAP for its consideration prior to the meeting. The DFO will review all submitted written statements and provide copies to UF BAP.

Dated: July 11, 2023.
Aaron T. Siegel,
Alternate OSD Federal Register Liaison Officer, Department of Defense.

[FR Doc. 2023-15118 Filed 7-17-23; 8:45 am]

BILLING CODE 5001-06-P